DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
California:
Riverside (FEMA Docket No.: B-1812) | City of Corona (17-09-2752P) | The Honorable Karen Spiegel, Mayor, City of Corona, 400 South Vicentia Avenue, Corona, CA 92882 | City Hall, 400 South Vicentia Avenue, Corona, CA 92882 | Jun. 14, 2018 | 060250
Riverside (FEMA Docket No.: B-1812) | Unincorporated Areas of Riverside County (17-09-2752P) | The Honorable Chuck Washington, Chairman, Board of Supervisors, Riverside County, 4080 Lemon Street, 5th Floor, Riverside, CA 92501 | Riverside County, Flood Control and Water Conservation District, 1995 Market Street, Riverside, CA 92501 | Jun. 14, 2018 | 060245
Florida: Duval (FEMA Docket No.: B-1809) | City of Jacksonville (17-04-6334P) | The Honorable Lenny Curry, Mayor, City of Jacksonville, 117 West Duval Street, Suite 400, Jacksonville, FL 32202 | City Hall, 117 West Duval Street, Jacksonville, FL 32202 | May 10, 2018 | 120077
Hawaii: Honolulu (FEMA Docket No.: B-1812) | City and County of Honolulu (18-09-0118P) | The Honorable Kirk Caldwell, Mayor, City and County of Honolulu, 530 South King Street Room 306, Honolulu, HI 96813 | Department of Planning and Permitting, 650 South King Street, Honolulu, HI 96813 | May 29, 2018 | 150001
Idaho:
Ada (FEMA Docket No.: B-1812) | City of Kuna (17-10-1636P) | The Honorable Joe Stear, Mayor, City of Kuna, P.O. Box 13, Kuna, ID 83634 | City Hall, 329 West 3rd Street, Kuna, ID 83634 | Jun. 7, 2018 | 160174
Ada (FEMA Docket No.: B-1812) | Unincorporated Areas of Ada County (17-10-1636P) | The Honorable David L. Case, Chairman, Ada County Board of Commissioners, 200 West Front Street, 3rd Floor, Boise, ID 83702 | Ada County Courthouse, 200 West Front Street, Boise, ID 83702 | Jun. 7, 2018 | 160001
Ada (FEMA Docket No.: B-1812) | Unincorporated Areas of Ada County (18-10-0284X) | The Honorable David L. Case, Chairman, Ada County Board of Commissioners, 200 West Front Street, 3rd Floor, Boise, ID 83702 | Ada County Courthouse, 200 West Front Street, Boise, ID 83702 | Jun. 8, 2018 | 160001
Illinois:
Cook (FEMA Docket No.: B-1809) | Unincorporated Areas of Cook County (16-05-7359P) | The Honorable Toni Preckwinkle The Honorable Toni Preckwinkle, President, Cook County Board, 118 North Clark Street, Room 537, Chicago, IL 60602 | Cook County Building and Zoning Department, 69 West Washington Street, 21st Floor, Chicago, IL 60602 | May 18, 2018 | 170054
Cook (FEMA Docket No.: B-1809) | Village of Alsip (16-05-7359P) | The Honorable John D. Ryan, Mayor, Village of Alsip, 4500 West 123rd Street, Alsip, IL 60803 | Village Office, 4500 West 123rd Street, Alsip, IL 60803 | May 18, 2018 | 170055
Cook (FEMA Docket No.: B-1809) | Village of Crestwood (16-05-7359P) | The Honorable Louis Presta, Mayor, Village of Crestwood, 13840 South Cicero Avenue, Crestwood, IL 60418 | Village Hall, 13840 South Cicero Avenue, Crestwood, IL 60418 | May 18, 2018 | 170080
McHenry (FEMA Docket No.: B-1812) | Unincorporated Areas of McHenry County (18-05-2003P) | The Honorable Jack D. Franks, Chairman, McHenry County Board, County Government Center, 2200 North Seminary Avenue, Woodstock, IL 60098 | County Government Center, 2200 North Seminary Avenue, Woodstock, IL 60098 | June 14, 2018 | 170732
McHenry (FEMA Docket No.: B-1812) | Village of Port Barrington (18-05-2003P) | The Honorable Shannon Yeaton, Village President, Village of Port Barrington, 69 South Circle Avenue, Port Barrington, IL 60010 | Village Hall, 69 South Circle Avenue, Port Barrington, IL 60010 | June 14, 2018 | 170478
Indiana: Lake (FEMA Docket No.: B-1809) | City of Hammond (17-05-6621P) | The Honorable Thomas M. McDermott, Jr. Mayor, City of Hammond, Hammond City Hall, 5925 Calumet Avenue, Hammond, IN 46320 | City Hall, 5925 Calumet Avenue, Hammond, IN 46320 | May 4, 2018 | 180134
Iowa: Bremer (FEMA Docket No.: B-1812) | City of Waverly (18-07-0164P) | The Honorable Charles D. Infelt, Mayor, City of Waverly, 200 1st Street Northeast, Waverly, IA 50677 | City Hall, 200 1st Street Northeast, Waverly, IA 50677 | Jun. 1, 2018 | 190030
Kansas: Johnson (FEMA Docket No.: B-1812) | City of Olathe (17-07-2080P) | The Honorable Michael Copeland, Mayor, City of Olathe, P.O. Box 768, Olathe, KS 66051 | City Hall, Olathe Planning Office, 100 West Santa Fe Drive, Olathe, KS 66061 | Jun. 1, 2018 | 200173
Minnesota: Anoka (FEMA Docket No.: B-1812) | City of Lino Lakes (17-05-5610P) | The Honorable Jeff Reinert, Mayor, City of Lino Lakes, 600 Town Center Parkway, Lino Lakes, MN 55014 | City Hall, 600 Town Center Parkway, Lino Lakes, MN 55014 | May 30, 2018 | 270015
Missouri:
Christian (FEMA Docket No.: B-1812) | City of Nixa (17-07-1573P) | The Honorable Brian E. Steele, Mayor, City of Nixa, 715 West Mount Vernon Street, Nixa, MO 65714 | City Hall, 715 West Mount Vernon Street, Nixa, MO 65714 | May 10, 2018 | 290078
Clay (FEMA Docket No.: B-1809) | City of Gladstone (17-07-1263P) | The Honorable R.D. Mallams, Mayor, City of Gladstone, City Hall, 7010 North Holmes Street, Gladstone, MO 64118 | City Hall, 7010 North Holmes Street, Gladstone, MO 64118 | May 11, 2018 | 290091
Nevada: Douglas (FEMA Docket No.: B-1812) | Unincorporated Areas of Douglas County (17-09-2481P) | The Honorable Barry Penzel, Chairman, Board of Commissioners, Douglas County, P.O. Box 218, Minden, NV 89423 | Douglas County, Community Development, 1594 Esmeralda Avenue, Minden, NV 89423 | Jun. 7, 2018 | 320008
Oregon:
Marion (FEMA Docket No.: B-1812) | City of Salem (17-10-1422P) | The Honorable Chuck M. Bennett, Mayor, City of Salem, City Hall, 555 Liberty Street Southeast, Room 220, Salem, OR 97301 | Public Works Department, 555 Liberty Street Southeast, Room 325, Salem, OR 97301 | May 29, 2018 | 410167
Marion (FEMA Docket No.: B-1812) | Unincorporated Areas of Marion County (17-10-1422P) | Mr. Sam Brentano, Commissioner, Marion County, 555 Court Street Northeast, Suite 5232, Salem, OR 97309 | Marion County, Department of Planning, 315 Lancaster Drive Northeast, Salem, OR 97305 | May 29, 2018 | 410154
Puerto Rico:, Puerto Rico (FEMA Docket No.: B-1809) | Commonwealth of Puerto Rico (17-02-1123P) | The Honorable Luis García Pelatti, President, Planning Board, Minillas Government Center, P.O. Box 41119, San Juan, PR 00940 | Puerto Rico Planning Board, Minillas Government Center, North Building, East Diego Avenue, Stop 22, San Juan, PR 00940 | May 10, 2018 | 720000
Texas: Tarrant (FEMA Docket No.: B-1809) | City of Euless (17-06-4048P) | The Honorable Linda Martin, Mayor, City of Euless, 201 North Ector Drive, Euless, TX 76039 | City Hall, 201 North Ector Drive, Euless, TX 76039 | May 18, 2018 | 480593
Washington: King (FEMA Docket No.: B-1809) | City of Issaquah (17-10-0929P) | The Honorable Fred Butler, Mayor, City of Issaquah, P.O. Box 1307, Issaquah, WA 98027 | Department of Public Works, City Hall, 1775 12th Avenue Northwest, Issaquah, WA 98027 | May 11, 2018 | 530079

[FR Doc. 2018-15385 Filed 7-18-18; 8:45 am]

BILLING CODE 9110-12-P